DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Adams (FEMA Docket No.: B-2391). | City of Federal Heights (23-08-0183P). | The Honorable Linda S. Montoya, Mayor, City of Federal Heights, 2380 West 90th Avenue, Federal Heights, CO 80260. | City Hall, 2380 West 90th Avenue, Federal Heights, CO 80260. | Jan. 12, 2024 | 080240
Denver (FEMA Docket No.: B-2386). | City and County of Denver (23-08-0074P). | The Honorable Mike Johnston, Mayor, City and County of Denver, 1437 North Bannock Street, Room 350, Denver, CO 80202. | Department of Public Works, 201 West Colfax Avenue, Denver, CO 80202. | Jan. 19, 2024 | 080046
El Paso (FEMA Docket No.: B-2386). | City of Colorado Springs (23-08-0612X). | The Honorable Yemi Mobolade, Mayor, City of Colorado Springs, 30 South Nevada Avenue, Colorado Springs, CO 80903. | El Paso County Pikes Peak Regional Building Department, Floodplain Management Office, 2880 International Circle, Colorado Springs, CO 80910. | Jan. 22, 2024 | 080060
El Paso (FEMA Docket No.: B-2386). | Unincorporated areas of El Paso County (23-08-0612X). | Cami Bremer, Chair, El Paso County, Board of Commissioners, 200 South Cascade Avenue, Suite 100, Colorado Springs, CO 80903. | El Paso County Pikes Peak Regional Building Department, Floodplain Management Office, 2880 International Circle, Colorado Springs, CO 80910. | Jan. 22, 2024 | 080059
Florida:
Miami-Dade (FEMA Docket No.: B-2376). | City of Miami (23-04-1745P). | The Honorable Francis Suarez, Mayor, City of Miami, 444 Southwest 2nd Avenue, Miami, FL 33130. | Building Department 444, Southwest 2nd Avenue, Miami, FL 33130. | Jan. 3, 2024 | 120650
Palm Beach (FEMA Docket No.: B-2376). | City of Westlake (23-04-0749P). | The Honorable John Paul O'Connor, Mayor, City of Westlake, 4001 Seminole Pratt Whitney Road, Westlake, FL 33470. | City Hall, 4001 Seminole Pratt Whitney Road, Westlake, FL 33470. | Jan. 8, 2024 | 120018
Pasco (FEMA Docket No.: B-2376). | Unincorporated areas of Pasco County (23-04-1176P). | Jack Mariano, Chair, Pasco County Board of Commissioners, 8731 Citizens Drive, New Port Richey, FL 34654. | Pasco County Building Construction Services Department, 8731 Citizens Drive, Suite 230, New Port Richey, FL 34654. | Jan. 11, 2024 | 120230
Pasco (FEMA Docket No.: B-2376). | Unincorporated areas of Pasco County (23-04-2545P). | Jack Mariano, Chair, Pasco County Board of Commissioners, 8731 Citizens Drive, New Port Richey, FL 34654. | Pasco County Building Construction Services Department, 8731 Citizens Drive, Suite 230, New Port Richey, FL 34654. | Jan. 4, 2024 | 120230
Volusia (FEMA Docket No.: B-2382). | City of Daytona Beach (23-04-1622P). | Deric C. Feacher, Manager, City of Daytona Beach, 301 South Ridgewood Avenue, Daytona Beach, FL 32114. | Utilities Department, 125 Basin Street, Daytona Beach, FL 32114. | Jan. 15, 2024 | 125099
Volusia (FEMA Docket No.: B-2382). | Unincorporated areas of Volusia County (23-04-1622P). | George Recktenwald, Manager, Volusia County, 123 West Indiana Avenue, DeLand, FL 32720. | Thomas C. Kelly Administration Center, 123 West Indiana Avenue, DeLand, FL 32720. | Jan. 15, 2024 | 125155
Kentucky:
Fayette (FEMA Docket No.: B-2382). | Lexington-Fayette Urban County Government (23-04-1858P). | The Honorable Linda Gorton, Mayor, Lexington-Fayette Urban County Government, 200 East Main Street, Lexington, KY 40507. | Engineering Department, 101 East Vine Street, 4th Floor, Lexington, KY 40507. | Jan. 4, 2024 | 210067
Marshall (FEMA Docket No.: B-2391). | Unincorporated areas of Marshall County (23-04-0278P). | The Honorable Kevin Spraggs, Marshall County Judge, 1101 Main Street, Benton, KY 42025. | Marshall County Information Technology Department, 1101 Main Street, Benton, KY 42025. | Jan. 12, 2024 | 210252
Massachusetts: Plymouth (FEMA Docket No.: B-2382). | Town of Duxbury (23-01-0101P). | René J. Read, Town of Duxbury Manager, 878 Tremont Street, Duxbury, MA 02332. | Town Hall, 878 Tremont Street, Duxbury, MA 02332. | Jan. 4, 2024 | 250263
North Carolina: Alamance (FEMA Docket No.: B-2382). | Unincorporated areas of Alamance County (23-04-2547P). | John Paisley, Chair, Alamance County, Board of Commissioners, 124 West Elm Street, Graham, NC 27253. | Alamance County Planning Department, 201 West Elm Street, Graham, NC 27253. | Jan. 19, 2024 | 370001
Pennsylvania: Blair (FEMA Docket No.: B-2386). | Township of Blair (22-03-1203P). | Paul R. Amigh, II, Chair, Township of Blair Board of Supervisors, 375 Cedarcrest Drive, Duncansville, PA 16635. | Township Hall, 375 Cedarcrest Drive, Duncansville, PA 16635. | Jan. 18, 2024 | 421386
Tennessee:
Hickman (FEMA Docket No.: B-2391). | Unincorporated areas of Hickman County (23-04-1242P). | The Honorable Jim Bates, Mayor, Hickman County, 114 North Central Avenue, Suite 204, Centerville, TN 37033. | Hickman County Administration Building, 114 North Central Avenue, Suite 101, Centerville, TN 37033. | Jan. 19, 2024 | 470091
Maury (FEMA Docket No.: B-2391). | Unincorporated areas of Maury County (23-04-1242P). | The Honorable Sheila K. Butt, Mayor, Maury County, 41 Public Square, Columbia, TN 38401. | Maury County Walter Harlan Building, 5 Public Square, Columbia, TN 38401. | Jan. 19, 2024 | 470123
Texas:
Collin and Denton (FEMA Docket No.: B-2382). | City of Frisco (22-06-2393P). | The Honorable Jeff Cheney, Mayor, City of Frisco, 6101 Frisco Square Boulevard, Frisco, TX 75034. | Development Engineers Department, 6101 Frisco Square Boulevard, Frisco, TX 75034. | Jan. 16, 2024 | 480134
Collin (FEMA Docket No.: B-2382). | City of Plano (23-06-1026P). | The Honorable John B. Muns, Mayor, City of Plano, 1520 K Avenue, Suite 250, Plano, TX 75074. | Engineering Department, 1520 K Avenue, Plano, TX 75074. | Jan. 16, 2024 | 480140
Dallas (FEMA Docket No.: B-2386). | City of Grand Prairie (23-06-0809P). | The Honorable Ron Jensen, Mayor, City of Grand Prairie, P.O. Box 534045, Grand Prairie, TX 75053. | City Hall, 300 West Main Street, Grand Prairie, TX 75050. | Jan. 8, 2024 | 485472
Dallas (FEMA Docket No.: B-2386). | City of Irving (23-06-0809P). | The Honorable Rick Stopfer, Mayor, City of Irving, 825 West Irving Boulevard, Irving, TX 75060. | City Hall, 825 West Irving Boulevard, Irving, TX 75060. | Jan. 8, 2024 | 480180
Denton (FEMA Docket No.: B-2382). | City of Fort Worth (23-06-0279P). | The Honorable Mattie Parker, Mayor, City of Fort Worth, 200 Texas Street, Fort Worth, TX 76102. | Transportation and Public Works, Engineering Vault, 200 Texas Street, Fort Worth, TX 76102. | Jan. 5, 2024 | 480596
Denton (FEMA Docket No.: B-2382). | Unincorporated areas of Denton County (23-06-0279P). | The Honorable Andy Eads, Denton County Judge, 1 Courthouse Drive, Suite 3100, Denton, TX 76208. | Denton County Hall, 1 Courthouse Drive, Denton, TX 76208. | Jan. 5, 2024 | 480774
Ellis (FEMA Docket No.: B-2386). | Unincorporated areas of Ellis County (23-06-0581P). | The Honorable Todd Little, Ellis County Judge, 101 West Main Street, Waxahachie, TX 75165. | Ellis County Engineering Department, 109 South Jackson Street, Waxahachie, TX 75165. | Jan. 18, 2024 | 480798
Rockwell (FEMA Docket No.: B-2382). | City of Fate (23-06-2327X). | The Honorable David Billings, Mayor, City of Fate, 1900 C.D. Boren Parkway, Fate, TX 75087. | City Hall, 1900 C.D. Boren Parkway, Fate, TX 75087. | Jan. 22, 2024 | 480544
Grayson (FEMA Docket No.: B-2382). | Unincorporated areas of Grayson County (23-06-0018P). | The Honorable Bruce Dawsey, Grayson County Judge, 100 West Houston Street, Sherman, TX 75090. | Grayson County Development Services/Floodplain Management, 100 West Houston Street, Suite G-1, Sherman, TX 75090. | Jan. 3, 2024 | 480829
Medina (FEMA Docket No.: B-2376). | Unincorporated areas of Medina County (23-06-0919P). | The Honorable Keith Lutz, Medina County Judge, 1300 Avenue M, Room 250, Hondo, TX 78861. | Medina County Old Jail Building, 1502 Avenue K, Hondo, TX 78861. | Jan. 12, 2024 | 480472
Victoria (FEMA Docket No.: B-2382). | City of Victoria (22-06-2362P). | The Honorable Jeff Bauknight, Mayor, City of Victoria, P.O. Box 1758, Victoria, TX 77901. | Victoria County Courthouse, 101 North Bridge Street, Victoria, TX 77901. | Jan. 8, 2024 | 480638
Victoria (FEMA Docket No.: B-2382). | Unincorporated areas of Victoria County (22-06-2362P). | The Honorable Ben Zeller, Victoria County Judge, 101 North Bridge Street, Room 102, Victoria, TX 77901. | Victoria County Courthouse, 101 North Bridge Street, Victoria, TX 77901. | Jan. 8, 2024 | 480637
Utah:
Salt Lake (FEMA Docket No.: B-2391). | City of Riverton (23-08-0038P). | The Honorable Trent Staggs, Mayor, City of Riverton, 12830 South Redwood Road, Riverton, UT 84065. | City Hall, 12830 South Redwood Road, Riverton, UT 84065. | Jan. 18, 2024 | 490104
Utah (FEMA Docket No.: B-2386). | City of Mapleton (23-08-0221P). | The Honorable Dallas Hakes, Mayor, City of Mapleton, 125 West 400 North, Mapleton, UT 84664. | Public Works Department, 1405 West 1600 North, Mapleton, UT 84664. | Jan. 8, 2024 | 490156
Virginia: Loudoun (FEMA Docket No.: B-2386). | Town of Leesburg (23-03-0038P). | Kaj Dentler, Manager, Town of Leesburg, 25 West Market Street, Leesburg, VA 20176. | Town Hall, 25 West Market Street, Leesburg, VA 20176. | Jan. 22, 2024 | 510091

[FR Doc. 2024-03179 Filed 2-14-24; 8:45 am]

BILLING CODE 9110-12-P